DEPARTMENT OF JUSTICE

Notice of Lodging of Proposed Consent Decree Under the Comprehensive Environmental Response, Compensation and Liability Act

On October 21, 2014, the Department of Justice lodged a proposed Consent Decree with the United States District Court for the District of Oregon in a lawsuit entitled United States v. Justine V.R. Russell, in her capacity as Personal Representative of the Estate of Roger Milliken, Dr. Ora K. Smith, and Sue Beauregard Rife, in her capacity as Personal Representative of the Estate of William A. Bowes, Civil Action No. 2:14-cv-01660-SU.

The United States filed this lawsuit under the Comprehensive Environmental Response, Compensation, and Liability Act of 1980, (“CERCLA”), 42 U.S.C. 9601 et seq. The United States' complaint names Justine V.R. Russell, in her capacity as Personal Representative of the Estate of Roger Milliken, Dr. Ora K. Smith, and Sue Beauregard Rife, in her capacity as Personal Representative of the Estate of William A. Bowes, as defendants. The complaint requests recovery of costs that the United States incurred responding to releases and the threat of releases of hazardous substances at and from the New York Mine Complex Site, the Ajax and Magnolia Mines Site, and the Independence Mine Group Site (also known as the Cougar Mine Site or Cougar Complex Site) in northeastern Oregon (collectively the “Historic Oregon Sites”). All of the defendants signed the Consent Decree. The defendants agreed to pay a total of $1,200,000.00 of the United States' response costs. In return, the United States agrees not to sue the defendants under sections 106, 107, and 113 of CERCLA with regard to the Historic Oregon Sites.

The publication of this notice opens a period for public comment on the Consent Decree. Comments should be addressed to the Assistant Attorney General, Environment and Natural Resources Division, and should refer to United States v. Justine V.R. Russell, in her capacity as Personal Representative of the Estate of Roger Milliken, Dr. Ora K. Smith, and Sue Beauregard Rife, in her capacity as Personal Representative of the Estate of William A. Bowes, Civil Action No. 2:14-cv-01660-SU, D.J. Ref. No. 90-11-3-10258/1.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $4.75 (25 cents per page reproduction cost) payable to the United States Treasury.

Susan M. Akers,
Assistant Section Chief, Environmental Enforcement Section, Environment and Natural Resources Division.

[FR Doc. 2014-25566 Filed 10-27-14; 8:45 am]

BILLING CODE 4410-15-P